DEPARTMENT OF TRANSPORTATION

Office of the Secretary

Aviation Proceedings, Agreements Filed During Week Ending March 30, 2001

The following Agreements were filed with the Department of Transportation under provisions of 49 U.S.C. sections 412 and 414. Answers may be filed within 21 days after the filing of the applications.

Docket Number: OST-2001-9259.

Date Filed: March 27, 2001.

Parties: Members of the International Air Transport Association.

Subject:

PTC2 ME-AFR 0067 dated 20 March 2001.

TC2 Middle East-Africa Expedited Resolutions 002p, 015v.

Intended effective date: 15 April 2001.

Docket Number: OST-2001-9290.

Date Filed: March 30, 2000.

Parties: Members of the International Air Transport Association.

Subject:

PTC3 0485 dated 23 March 2001.

Mail Vote 116—TC3 Special Passenger Amending.

Resolution between Japan and Uzbekistan.

Intended effective date: 1 April 2001.

Dorothy Y. Beard,
Federal Register Liaison.

[FR Doc. 01-9246 Filed 4-12-01; 8:45 am]

BILLING CODE 4910-62-P